DEPARTMENT OF VETERANS AFFAIRS

[OMB Control No. 2900-0698]

Agency Information Collection (Application for Educational Assistance to Supplement Tuition Assistance) OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before November 7, 2016.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0698” in any correspondence.

FOR FURTHER INFORMATION CONTACT: Cynthia Harvey-Pryor, Enterprise Records Service (005R1B), Department of Veterans Affairs, 810 Vermont Avenue NW., Washington, DC 20420, (202) 461-5870 or email cynthia.harvey-pryor@va.gov. Please refer to “OMB Control No. 2900-0698.”

SUPPLEMENTARY INFORMATION: Title: Application for Educational Assistance To Supplement Tuition Assistance, 38 CFR 21.1030(c), 21.7140(c)(5).

OMB Control Number: 2900-0698.

Type of Review: Revision of a currently approved collection.

Abstract: Claimants who wish to receive educational assistance administered by VA to supplement tuition assistance administered by the Department of Defense must apply through VA. VA will use the data collected to determine the claimant's eligibility to receive educational assistance to supplement the tuition assistance he or she received and the amount payable.

The Federal Register Notice with a 60-day comment period soliciting comments on this collection of information was published at 81 FR 17341 on July 22, 2016.

Affected Public: Individuals or Households.

Estimated Annual Burden: 1,600 hours.

Estimated Average Burden per Respondent: 12 minutes.

Frequency of Response: On occasion.

Estimated Number of Respondents: 8,000.

By direction of the Secretary.
Cynthia Harvey-Pryor,
Program Specialist, Office of Privacy and Records Management, Department of Veterans Affairs.

[FR Doc. 2016-24154 Filed 10-5-16; 8:45 am]

BILLING CODE 8320-01-P